DEPARTMENT OF COMMERCE

Foreign-Trade Zones Board

[Docket 31-2008]

Foreign-Trade Zone 176—Rockford, IL; Application for Reorganization/Expansion

An application has been submitted to the Foreign-Trade Zones Board (the Board) by the Greater Rockford Airport Authority, grantee of FTZ 176, requesting authority to reorganize and expand the zone in the Rockford, Illinois, area. The application was submitted pursuant to the provisions of the Foreign-Trade Zones Act, as amended (19 U.S.C. 81a-81u), and the regulations of the Board (15 CFR part 400). It was formally filed on May 9, 2008.

FTZ 176 was approved on March 1, 1991 (Board Order 511, 56 FR 10409, 3/12/91), and expanded on February 9, 2005 (Board Order 1368, 70 FR 9613, 2/28/05), and on August 3, 2006 (Board Order 1473, 71 FR 47483, 8/17/06).

The zone project currently consists of the following sites (3,110 acres) in the Rockford area: Site 1 (1,972 acres)—industrial park area of the Chicago Rockford International Airport, 60 Airport Drive, Rockford; Site 1a (2 acres)—warehouse facilities at 1635 New Milford School Road and 1129 18th Avenue, Rockford (expires 6/1/09); Site 2 (6 acres)—warehouse at 500 South Independence Avenue, Rockford; Site 3 (566 acres, 2 parcels)—CenterPoint Industrial Park (366 acres) located at the intersection of Route 38 and Brush Grove Road; and, Interstate Transportation Center Industrial Park (200 acres) located on the west side of State Highway 38, Rockford; Site 4 (304 acres, 3 parcels)—LogistiCenter located at the southwest corner of Interstate 39 and Interstate 88, Rochelle; Site 5 (53 acres)—South Rochelle Industrial Park located on State Highway 251 and Veterans Parkway, Rochelle; Site 6 (74 acres)—Rolling Hills Industrial Park, 2200 Lakeshore Drive, Woodstock; and, Site 7 (133 acres)—Crossroads Commerce Center, located at Interstate 88 and Main Street, Rochelle.

The applicant is now requesting authority for a reorganization and expansion of the zone, which includes both additions and deletions with an overall increase of 508 acres in total zone space as described below:

—Modify existing Site 1 by removing 1105 acres due to changed circumstances, expand to include an additional 441 acres, and to move Temporary Site 1a within Site 1 on a permanent basis (new total acreage—1308 acres);

—Remove Site 2 (6 acres) from the zone project due to changed circumstances;

—Remove Site 5 (53 acres) from the zone project due to changed circumstances;

—Add Proposed Site 8 (8 acres, 2 parcels)—Abilities Center located at 1907 Kishwaukee Street and Counselor Scale Building located at 2000 and 2100 South Kishwaukee Street, Rockford;

—Add Proposed Site 9 (16 acres, 2 parcels)—former Essex Wire Plant, 2816 North Main Street, Rockford;

—Add Proposed Site 10 (867 acres, 2 parcels)—Park 88 Industrial Park, located at the northwest corner of Peace Road and Fairview Drive and at the southwest corner of Peace Road and Gurler Road, De Kalb;

—Add Proposed Site 11 (46 acres, 2 parcels)—Loves Park Corporate Center, located at Bell School Road and Riverside Drive, Loves Park; and,

—Add Proposed Site 12 (296 acres, 2 parcels)—Rock 39 Industrial Park, located north and south of Baxter Road, east of Route 39 and west of Mulford Road, Cherry Valley.

No specific manufacturing authority is being requested at this time. Such requests would be made to the Board on a case-by-case basis.

In accordance with the Board's regulations, Camille Evans of the FTZ staff is designated examiner to investigate the application and report to the Board.

Public comment is invited from interested parties. Submissions (original and 3 copies) shall be addressed to the Board's Executive Secretary at the address below. The closing period for their receipt is July 15, 2008. Rebuttal comments in response to material submitted during the foregoing period may be submitted during the subsequent 15-day period to July 30, 2008.

A copy of the application and accompanying exhibits will be available for public inspection at each of the following locations: U.S. Department of Commerce, Export Assistance Center, 605 Fulton Avenue, Suite E103, Rockford, IL 61103; and, Office of the Executive Secretary, Foreign-Trade Zones Board, U.S. Department of Commerce, Room 2111, 1401 Constitution Avenue, NW., Washington, DC 20230.

For further information, contact Camille Evans at Camille_Evans@ita.doc.gov or (202) 482-2350.

Dated: May 9, 2008.
Andrew McGilvray,
Executive Secretary.

[FR Doc. E8-11051 Filed 5-15-08; 8:45 am]

BILLING CODE 3510-DS-P